DEPARTMENT OF COMMERCE

[I.D. 040601F]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Interim Capital Construction Fund Agreement and Certificate Family of Forms.

Form Number(s): NOAA Form 88-14.

OMB Approval Number: 0648-0090.

Type of Request: Regular submission.

Burden Hours: 2,250.

Number of Respondents: 1,000.

Average Hours Per Response: 3.5 hours per agreement, 1 hour per certificate.

Needs and Uses: The Capital Construction Fund Program allows commercial fishermen to enter into agreements with the Secretary of Commerce to establish accounts to fund the construction, reconstruction, or replacement of a fishing vessel. Monies placed into the accounts receive tax deferral benefits. Persons must apply for the program to establish their eligibility.

Affected Public: Business or other for-profit organizations.

Frequency: On occasion.

Respondent's Obligation: Required to obtain or retain a benefit.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: April 5, 2001.
Madeleine Clayton,
Departmental Paperwork Clearance Officer, Office of the Chief Information Officer.

[FR Doc. 01-9104 Filed 4-11-01; 8:45 am]

BILLING CODE 3510-22-S